DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 26, 2016.
Roy E. Wright,
Deputy Associate Administrator for Insurance and Mitigation, Department of Homeland Security, Federal Emergency Management Agency.

State and county | Location and case No. | Chief executive officer of community | Community map repository | Online location of letter of map revision | Effective date of modification | Community No.
California: Sacramento (FEMA Docket No.: B-1608) | Unincorporated Areas of Sacramento County (15-09-2246P) | The Honorable Phil Serna, Chairman, Board of Supervisors, Sacramento County, 700 H Street, Suite 2450, Sacramento, CA 95814 | Sacramento County, Department of Water Resources, 827 7th Street, Room 301, Sacramento, CA 95814 | Mar. 21, 2016 | 060262
Connecticut: New Haven (FEMA Docket No.: B-1619) | Town of Madison (15-01-1621P) | Mr. Fillmore McPherson, First Selectman, Town of Madison, Town Office, 8 Campus Drive, Madison, CT 06443 | Town Offices, 8 Campus Drive, Madison, CT 06443 | Jul. 8, 2016 | 090079
Idaho:
Ada FEMA Docket No.: B-1619) | Unincorporated Areas of Ada County (16-10-0348X) | Mr. Jim Tibbs, Chairman, Board of County Commissioners, 200 West Front Street, 3rd Floor, Boise, ID 83702 | Ada County Courthouse, 200 West Front Street, Boise, ID 83702 | Jun. 2, 2016 | 160001
Ada (FEMA Docket No.: B-1626) | Unincorporated Areas of Ada County (16-10-0446P) | Mr. Jim Tibbs, Chairman, Board of County Commissioners, 200 West Front Street, 3rd Floor, Boise, ID 83702 | Ada County Courthouse, 200 West Front Street, Boise, ID 83702 | Aug. 9, 2016 | 160001
Illinois:
McHenry (FEMA Docket No.: B-1619) | Unincorporated Areas of McHenry County (15-05-7970P) | The Honorable Joseph Gottemoller, Chairman, McHenry County Board, County Government Center, 2200 North Seminary Avenue, Woodstock, IL 60098 | County Government Center, 2200 North Seminary Avenue, Woodstock, IL 60098 | Jul. 18, 2016 | 170732
McHenry (FEMA Docket No.: B-1619) | Village of Fox River Grove (15-05-7970P) | The Honorable Robert J. Nunamaker, Village President, Village of Fox River Grove, 305 Illinois Street, Fox River Grove, IL 60021 | Village Hall, 305 Illinois Street, Fox River Grove, IL 60021 | Jul. 18, 2016 | 170477
Sangamon FEMA Docket No.: B-1606) | City of Springfield (15-05-8063X) | The Honorable James O. Langfelder, Mayor, City of Springfield, 800 East Monroe, Springfield, IL 62701 | Public Works Department, 300 South 7th Street, Room 203, Springfield, IL 62701 | May 5, 2016 | 170604
Sangamon (FEMA Docket No.: B-1606) | Unincorporated Areas of Sangamon County (15-05-8063X) | The Honorable Andy Van Meter, Chairman, Sangamon County Board, 200 South 9th Street, Room 201, Springfield, IL 62701 | Springfield-Sangamon County Regional Planning Commission, 200 South 9th Street, Room 212, Springfield, IL 62701 | May 5, 2016 | 170912
Indiana: Hendricks (FEMA Docket No.: B-1626) | Unincorporated Areas of Hendricks County (16-05-2570P) | Mr. Michael E. Graham, Administrator to the County Commissioner, Hendricks County Government Center, 355 South Washington Street, Danville, IN 46122 | Hendricks County Government Center, 355 South Washington Street, Danville, IN 46122 | Jul. 7, 2016 | 180415
Iowa:
Johnson (FEMA Docket No.: B-1619) | City of Coralville (15-07-1807P) | The Honorable John Lundell, Mayor, City of Coralville, 1512 7th Street, P.O. Box 5127, Coralville, IA 52241 | City Hall, 1512 7th Street, Coralville, IA 52241 | Jun. 24, 2016 | 190169
Johnson (FEMA Docket No.: B-1619) | Unincorporated Areas of Johnson County (15-07-1807P) | Mr. Rod Sullivan, Chairperson, Board of Supervisors, Johnson County Administration Building, 913 South Dubuque Street, Suite 204, Iowa City, IA 52240 | Johnson County, Planning and Zoning, 913 South Dubuque Street, Iowa City, IA 52240 | Jun. 24, 2016 | 190882
Kansas:
Johnson (FEMA Docket No.: B-1619) | City of Olathe (16-07-0379P) | The Honorable Michael Copeland, Mayor, City of Olathe, P.O. Box 768, Olathe, KS 66051 | City Hall, Olathe Planning Office, 100 West Santa Fe Drive, Olathe, KS 66061 | Jul. 15, 2016 | 200173
Sedgwick (FEMA Docket No.: B-1606) | City of Wichita (15-07-0922P) | The Honorable Carl Brewer, Mayor, City of Wichita, City Hall, 455 North Main Street, 1st Floor, Wichita, KS 67202 | Office of Stormwater Management, 455 North Main Street, 8th Floor, Wichita, KS 67202 | Apr. 26, 2016 | 200328
Sedgwick (FEMA Docket No.: B-1606) | Unincorporated Areas of Sedgwick County (15-07-0922P) | The Honorable Richard Ranzau, Chairman, Sedgwick County Commission, 525 North Main No. 320, Wichita, KS 67203 | Sedgwick County Code Enforcement Office, 144 South Seneca Street, Wichita, KS 67213 | Apr. 26, 2016 | 200321
Minnesota:
Anoka (FEMA Docket No.: B-1619) | City of Blaine (15-05-7513P) | The Honorable Tom Ryan, Mayor, City of Blaine, 10801 Town Square Drive Northeast, Blaine, MN 55449 | City Hall Offices, 10801 Town Square Drive Northeast, Blaine, MN 55449 | Jul. 1, 2016 | 270007
Clay (FEMA Docket No.: B-1619) | City of Moorhead (16-05-0672P) | The Honorable Del Rae Williams, Mayor, City of Moorhead, Moorhead City Hall, 500 Center Avenue, Moorhead, MN 56561 | City Hall, 500 Center Avenue, Moorhead, MN 56561 | Jun. 10, 2016 | 275244
New Jersey:
Burlington (FEMA Docket No.: B-1626) | Township of Medford (16-02-0032P) | The Honorable Jeffrey Beenstock, Mayor, Township of Medford, 17 North Main Street, Medford, NJ 08055 | Municipal Center, 17 North Main Street, Medford, NJ 08055 | Aug. 5, 2016 | 340104
Middlesex (FEMA Docket No.: B-1626) | Borough of Middlesex (16-02-0324P) | The Honorable Ronald J. DiMura, Mayor, Borough of Middlesex, 1200 Mountain Avenue, Middlesex, NJ 08846 | Municipal Court, 1200 Mountain Avenue, Middlesex, NJ 08846 | Jul. 18, 2016 | 345305
Somerset (FEMA Docket No.: B-1626) | Borough of Bound Brook (16-02-0324P) | The Honorable Robert Fazen, Mayor, Borough of Bound Brook, 230 Hamilton Street, Bound Brook, NJ 08805 | Municipal Building, 230 Hamilton Street, Bound Brook, NJ 08805 | Jul. 18, 2016 | 340430
Somerset (FEMA Docket No.: B-1626) | Borough of South Bound Brook (16-02-0324P) | The Honorable Caryl Shoffner, Mayor, Borough of South Bound Brook, 12 Main Street, South Bound Brook, NJ 08880 | Municipal Building, 12 Main Street, South Bound Brook, NJ 08880 | Jul. 18, 2016 | 340445
Somerset (FEMA Docket No.: B-1626) | Township of Bridgewater (16-02-0324P) | The Honorable Daniel J. Hayes, Jr., Mayor, Township of Bridgewater, 100 Commons Way, Bridgewater, NJ 08807 | Department of Code Enforcement, 700 Garretson Road, Bridgewater, NJ 08807 | Jul. 18, 2016 | 340432
Somerset (FEMA Docket No.: B-1626) | Township of Bridgewater (16-02-0607P) | The Honorable Daniel J. Hayes Jr., Mayor, Township of Bridgewater, 100 Commons Way, Bridgewater, NJ 08807 | Township of Bridgewater Department of Code Enforcement, 700 Garretson Road, Bridgewater, NJ 08807 | Aug. 4, 2016 | 340432
Ohio:
Franklin (FEMA Docket No.: B-1544) | City of Columbus (15-05-2037P) | The Honorable Michael B. Coleman, Mayor, City of Columbus, City Hall, 2nd Floor, 90 West Broad Street, Columbus, OH 43215 | Department of Development, 757 Carolyn Avenue, Columbus, OH 43224 | Dec. 18, 2015 | 390170
Franklin (FEMA Docket No.: B-1544) | City of Grandview Heights (15-05-2037P) | The Honorable Ray DeGraw, Mayor, City of Grandview Heights, City Hall, 1016 Grandview Avenue, Grandview Heights, OH 43212 | Development Office, 1525 West Goodale Boulevard, Grandview Heights, OH 43123 | Dec. 18, 2015 | 390172
Licking (FEMA Docket No.: B-1626) | Village of Granville (16-05-1572P) | The Honorable Melissa Hartfield, Mayor, Village of Granville, City Hall, 141 East Broadway Street, Granville, OH 43023 | Village Offices, 141 East Broadway Street, Granville, OH 43023 | Aug. 4, 2016 | 390330
Oregon:
Lane (FEMA Docket No.: B-1619) | City of Creswell (16-10-0415X) | The Honorable Dave Stram, Mayor, City of Creswell, P.O. Box 276, Creswell, OR 97426 | City Hall, 13 South 1st Street, Creswell, OR 97426 | Jul. 5, 2016 | 410121
Lane (FEMA Docket No.: B-1619) | Unincorporated Areas of Lane County (16-10-0415X) | The Honorable Faye Stewart, Commissioner, East Lane County, Lane County Public Service Building, 125 East 8th Street, Eugene, OR 97401 | Lane County Planning Department, Public Service Building, 125 East 8th Street, Eugene, OR 97401 | Jul. 5, 2016 | 415591
Tennessee: Hamblen (FEMA Docket No.: B-1619) | City of Morristown (15-04-8338P) | The Honorable Gary Chesney, Mayor, City of Morristown, 100 West 1st North Street, P.O. Box 1499, Morristown, TN 37816 | County Courthouse, 511 West 2nd North Street, Morristown, TN 37814 | May 27, 2016 | 470070

[FR Doc. 2016-22895 Filed 9-21-16; 8:45 am]

BILLING CODE 9110-12-P